DEPARTMENT OF THE INTERIOR

National Park Service

[NPS-WASO-NAGPRA-NPS0038305; PPWOCRADN0-PCU00RP14.R50000]

Notice of Inventory Completion: Office of the State Archaeologist Bioarchaeology Program, University of Iowa, Iowa City, IA

AGENCY: National Park Service, Interior.

ACTION: Notice.

SUMMARY: In accordance with the Native American Graves Protection and Repatriation Act (NAGPRA), the Office of the State Archaeologist Bioarchaeology Program (OSA-BP) has completed an inventory of human remains and has determined that there is no lineal descendant and no Indian Tribe or Native Hawaiian organization with cultural affiliation.

DATES: Upon request, repatriation of the human remains in this notice may occur on or after August 19, 2024.

ADDRESSES: Dr. Lara Noldner, Office of the State Archaeologist Bioarchaeology Program, University of Iowa, 700 S Clinton Street, Iowa City, IA 52242, telephone (319) 384-0740, email lara-noldner@uiowa.edu.

SUPPLEMENTARY INFORMATION: This notice is published as part of the National Park Service's administrative responsibilities under NAGPRA. The determinations in this notice are the sole responsibility of the Office of the State Archaeologist Bioarchaeology Program, and additional information on the determinations in this notice, including the results of consultation, can be found in its inventory or related records. The National Park Service is not responsible for the determinations in this notice.

Abstract of Information Available

At an unknown date, sometime after 1920, human remains representing a minimum of one individual were removed from an unknown location. The human remains, a human cranium and mandible, were kept in the possession of a private citizen who travelled and did construction in several states, including Illinois, Iowa, Minnesota, Missouri, and Wisconsin. The skull was passed on to a grandchild who lived in Keokuk, Iowa. In 2002, the descendant transferred the remains to the OSA BP. A probable male, aged 25 to 35 years, is represented by the cranial remains. Cranial metrics and dental morphology support the identification of this individual as Native American (Burial Project 1558). No associated funerary objects are present. No known hazardous substances were used to treat any of the human remains.

At an unknown date, human remains representing a minimum of six individuals were removed from an unknown location. The human remains were kept in the collections of the Historical Society of Marshall County in Marshalltown, Iowa. Little is known of the history of the collection, but archival information suggests they had been acquired around the turn of the 20th century from mound locations, possibly along the Mississippi in Wisconsin and Iowa. The human remains were transferred to the Office of the State Archaeologist Bioarchaeology Program in April of 1988. The human remains represent four adult males, one adult female, and one adult of indeterminate sex (BP 250). No associated funerary objects are present. No known hazardous substances were used to treat any of the human remains.

At an unknown date, human remains representing a minimum of four individuals were removed from unknown locations. The human remains were in the possession of the Grand Meadows Heritage Center in Washta, IA, Cherokee County. Upon their discovery they were transferred to the OSA in November 2020 accompanied by two inventory sheets. The descriptions declared there was a skull from Illinois “possibly Sioux”, a skull from a “stone grave” in Illinois, and a “Moundbuilder's skull” from an unknown location. A fourth skull with no provenience information was also determined to be of Native American ancestry. Three adults, two males and one female, and one juvenile are represented (BP 3542). No associated funerary objects are present. No known hazardous substances were used to treat any of the human remains.

In 1965, human remains representing a minimum of one individual were removed from an unknown location somewhere near Chicago, IL by private collector, Bill Borden. They were transferred to the University of Northern Iowa (UNI) at an unknown date (UNI acc #: 70.74.0482F) and when found in their collections, were transferred to the OSA BP in 2023. A singular right parietal fragment represents a juvenile of unknown age (BP 3775). No associated funerary objects are present. No known hazardous substances were used to treat any of the human remains.

At an unknown time prior to 1964, human remains representing a minimum of one individual were removed from a mound in southern Illinois by an unknown individual. The human remains were transferred to UNI at an unknown date (UNI acc #: 00.4.11.280.0003), and when found in their collections, were transferred to the OSA BP in 2023. A partial cranium represents an adult male individual of unknown age (BP3775). No associated funerary objects are present. No known hazardous substances were used to treat any of the human remains.

Consultation

Invitations to consult were sent to the Absentee-Shawnee Tribe of Indians of Oklahoma; Assiniboine and Sioux Tribes of the Fort Peck Indian Reservation, Montana; Bad River Band of the Lake Superior Tribe of Chippewa Indians of the Bad River Reservation, Wisconsin; Cheyenne River Sioux Tribe of the Cheyenne River Reservation, South Dakota; Citizen Potawatomi Nation, Oklahoma; Delaware Nation, Oklahoma; Flandreau Santee Sioux Tribe of South Dakota; Forest County Potawatomi Community, Wisconsin; Hannahville Indian Community, Michigan; Ho-Chunk Nation of Wisconsin; Iowa Tribe of Kansas and Nebraska; Iowa Tribe of Oklahoma; Kaw Nation, Oklahoma; Keweenaw Bay Indian Community, Michigan; Kickapoo Tribe of Indians of the Kickapoo Reservation in Kansas; Kickapoo Tribe of Oklahoma; Kiowa Indian Tribe of Oklahoma; Lac Courte Oreilles Band of Lake Superior Chippewa Indians of Wisconsin; Lac du Flambeau Band of Lake Superior Chippewa Indians of the Lac du Flambeau Reservation of Wisconsin; Lower Sioux Indian Community in the State of Minnesota; Miami Tribe of Oklahoma; Minnesota Chippewa Tribe, Minnesota (Six component reservations: Bois Forte and (Nett Lake); Fond du Lac Band; Grand Portage Band; Leech Lake Band; Mille Lacs Band; White Earth Band); Oglala Sioux Tribe; Omaha Tribe of Nebraska; Otoe-Missouria Tribe of Indians, Oklahoma; Pawnee Nation of Oklahoma; Peoria Tribe of Indians of Oklahoma; Ponca Tribe of Indians of Oklahoma; Ponca Tribe of Nebraska; Prairie Band Potawatomi Nation; Prairie Island Indian Community in the State of Minnesota; Quapaw Nation; Red Cliff Band of Lake Superior Chippewa Indians of Wisconsin; Red Lake Band of Chippewa Indians, Minnesota; Sac & Fox Nation of Missouri in Kansas and Nebraska; Sac & Fox Nation, Oklahoma; Sac & Fox Tribe of the Mississippi in Iowa; Santee Sioux Nation, Nebraska; Shakopee Mdewakanton Sioux Community of Minnesota; Sisseton-Wahpeton Oyate of the Lake Traverse Reservation, South Dakota; Sokaogon Chippewa Community, Wisconsin; Spirit Lake Tribe, North Dakota; Standing Rock Sioux Tribe of North & South Dakota; The Osage Nation; Three Affiliated Tribes of the Fort Berthold Reservation, North Dakota; United Keetoowah Band of Cherokee Indians in Oklahoma; Upper Sioux Community, Minnesota; Winnebago Tribe of Nebraska; and the Yankton Sioux Tribe of South Dakota.

Cultural Affiliation

The following types of information about the cultural affiliation of the human remains and associated funerary objects in this notice are available: biological and geographical. The information, including the results of consultation, identified:

1. No earlier group connected to the human remains or associated funerary objects.

2. No Indian Tribe or Native Hawaiian organization connected to the human remains or associated funerary objects.

Determinations

The OSA BP has determined that:

• The human remains described in this notice represent the physical remains of 13 individuals of Native American ancestry.

• No known lineal descendant who can trace ancestry to the human remains and associated funerary objects in this notice has been identified.

• No Indian Tribe or Native Hawaiian organization with cultural affiliation to the human remains in this notice has been clearly or reasonably identified.

Requests for Repatriation

Written requests for repatriation of the human remains in this notice must be sent to the authorized representative identified in this notice under ADDRESSES. Requests for repatriation may be submitted by any lineal descendant, Indian Tribe, or Native Hawaiian organization who shows, by a preponderance of the evidence, that the requestor is a lineal descendant or an Indian Tribe or Native Hawaiian organization with cultural affiliation.

Upon request, repatriation of the human remains described in this notice may occur on or after August 19, 2024. If competing requests for repatriation are received, the OSA BP must determine the most appropriate requestor prior to repatriation. Requests for joint repatriation of the human remains are considered a single request and not competing requests. The OSA BP is responsible for sending a copy of this notice to any consulting lineal descendant, Indian Tribe, or Native Hawaiian organization.

Authority: Native American Graves Protection and Repatriation Act, 25 U.S.C. 3003, and the implementing regulations, 43 CFR 10.10.

Dated: July 10, 2024.
Melanie O'Brien,
Manager, National NAGPRA Program.

[FR Doc. 2024-15899 Filed 7-18-24; 8:45 am]

BILLING CODE 4312-52-P